DEPARTMENT OF COMMERCE

Census Bureau

Current Population Survey (CPS)—Internet and Computer Use Supplement

ACTION: Proposed collection; comment request.

SUMMARY: The Department of Commerce, as part of its continuing effort to reduce paperwork and respondent burden, invites the general public and other federal agencies to take this opportunity to comment on proposed and/or continuing information collections, as required by the Paperwork Reduction Act of 1995, Public Law 104-13 (44 U.S.C. 3506(c)(2)(A)).

DATES: Submit written comments on or before June 25, 2001.

ADDRESSES: Direct all written comments to Madeleine Clayton, Departmental Paperwork Clearance Officer, Department of Commerce, Room 6086, 14th and Constitution Avenue, NW, Washington, DC 20230 (or via the Internet at mclayton@doc.gov).

FOR FURTHER INFORMATION CONTACT: Requests for additional information or copies of the information collection instrument(s) and instructions should be directed to Tim Marshall, Census Bureau, FOB 3, Room 3340, Washington, DC 20233-8400, (301) 457-3806.

SUPPLEMENTARY INFORMATION:

I. Abstract

The Census Bureau requests clearance for the collection of data through the Internet and Computer Use Supplement which will be conducted in conjunction with the September 2001 CPS. The Census Bureau, the Bureau of Labor Statistics, the National Center for Education Statistics, and the National Telecommunications and Information Administration are jointly sponsoring this data collection. Title 13, United States Code, section 182 and Title 29, United States Code, sections 1-9 authorize the collection of CPS information.

All four agencies have definite objectives in conducting this data collection; some of which are shared among them, and others of which are solely their own. They all share the goal of disseminating information on the penetration of computer and Internet technology in the United States and the uses of this technology by households and individuals.

This survey will provide a source of national and state level data on the demographic, social, and economic characteristics of Internet users and non-users. The development of statistical profiles of disadvantaged groups and specific geographic areas will permit public-private partnerships to target assistance to those that are most in need. It will provide information on where users access the Internet (at home, work, school, or other facility), the features used, and the reasons for nonuse of the Internet.

II. Method of Collection

The computer use information will be collected by both personal visits and telephone interviews in conjunction with the regular September CPS interviewing. All interviews are conducted using computer-assisted interviewing.

III. Data

OMB Number: Not Applicable.

Form Number: There are no forms. We conduct all interviews on computers.

Type of Review: Regular.

Affected Public: Households.

Estimated Number of Respondents: 57,000.

Estimated Time Per Response: 8 minutes.

Estimated Total Annual Burden Hours: 7,600.

Estimated Total Annual Cost: The only cost to respondents is that of their time to answer the CPS questions.

Respondent's Obligation: Voluntary.

Legal Authority: Title 13, United States Code, section 182 and Title 29, United States Code, sections 1-9.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of collecting the information on respondents, including through the use of automated collection techniques or other forms of information technology.

Comments submitted in response to this notice will be summarized and/or included in the request for OMB approval of this information collection and will become a matter of public record.

Dated: April 19, 2001.
Madeleine Clayton,
Department Paperwork Clearance Officer, Office of the Chief Information Office.

[FR Doc. 01-10088 Filed 4-23-01; 8:45 am]

BILLING CODE 3510-07-P